DEPARTMENT OF TRANSPORTATION

Federal Highway Administration

[Docket No. FHWA-2004-18604]

Agency Information Collection Activities; Request for Comments; Clearance of a New Information Collection; Freight Planning Noteworthy Practices

AGENCY: Federal Highway Administration (FHWA), DOT.

ACTION: Notice and request for comments.

SUMMARY: The FHWA invites public comments about our intention to request the Office of Management and Budget's (OMB) approval to conduct a new information collection, which is summarized below under Supplementary Information. We are required to publish this notice in the Federal Register by the Paperwork Reduction Act of 1995.

DATES: Please submit comments by October 12, 2004.

ADDRESSES: You may submit comments identified by DOT DMS Docket Number FHWA-2004-XXXXX by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-000.

• Hand Delivery: Room PL-401 on the plaza level of the Nassif Building, 400 Seventh Street, SW., Washington, DC, between 9 a.m. and 5 p.m., Monday through Friday, except Federal holidays.

Instructions: All submissions must include the agency name and docket number. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal holidays.

Public Comments Invited: You are asked to comment on any aspect of these information collections, including: (1) Whether the proposed collections are necessary for the FHWA's performance; (2) the accuracy of estimated burdens; (3) ways for the FHWA to enhance the quality, usefulness, and clarity of the collected information; and (4) ways that burdens could be minimized, including use of electronic technology, without reducing the quality of the collected information. The agency will summarize and/or include your comments in the request for OMB's clearance of these information collections.

SUPPLEMENTARY INFORMATION: Title: Freight Planning Noteworthy Practices.

Background: The FHWA plans to update its Freight Planning Web site by adding a new feature that will collect information and photographs about freight planning activities from the FHWA public sector partners. This information will be reviewed by the FHWA on a monthly basis to determine which project will be posted on the Web site as an informational and educational tool for the FHWA's public sector audiences, which are engaged in freight planning activities and/or are just beginning to develop freight planning activities. Freight planning agencies will provide a description of case studies on Freight Planning and Implementation, which can include plans or project, or both.

Respondents: 60 State Transportation Departments, including Metropolitan Planning Organizations, and local governments.

Frequency: On-going basis.

Estimated Total Annual Burden: 60 hours. It is estimated that each freight-planning agency spends one hour to prepare and provide this information to the FHWA.

FOR FURTHER INFORMATION CONTACT: Ms. Eloise Freeman-Powell, (202) 366-2068, Office of Planning, Federal Highway Administration, Department of Transportation, 400 Seventh Street, SW., Washington, DC 20590-0001. Office hours are from 8 a.m. to 4:30 p.m., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

Authority: The Paperwork Reduction Act of 1995; 44 U.S.C. chapter 35, as amended; and 49 CFR 1.48.

Issued on: July 29, 2004.
James R. Kabel,
Chief, Management Programs and Analysis Division.

[FR Doc. 04-18192 Filed 8-9-04; 8:45 am]

BILLING CODE 4910-22-P